DEPARTMENT OF ENERGY

Federal Energy Regulatory Commission

[Docket Nos. RP01-74-000 and RP97-406-025

Dominion Transmission, Inc.; Notice of Proposed Changes in FERC Gas Tariff

November 6, 2000.

Take notice that on November 1, 2000, Dominion Transmission, Inc. (DTI), tendered for filing to be part of its FERC Gas Tariff, Third Revised Volume No. 1, the revised tariff sheets listed below in order to implement fully unbundled gathering and extraction rates, and to reflect the effects of that unbundling on transportation service rates.

Third Revised Sheet No. 31

Third Revised Sheet No. 32

Second Revised Sheet No. 33

Third Revised Sheet No. 34

Third Revised Sheet No. 35

Second Revised Sheet No. 37

First Revised Sheet No. 152

First Revised Sheet No. 153

First Revised Sheet No. 202

First Revised Sheet No. 203

First Revised Sheet No. 251

First Revised Sheet No. 252

First Revised Sheet No. 253

First Revised Sheet No. 1098

First Revised Sheet No. 1118

First Revised Sheet No. 1121

First Revised Sheet No. 1122

First Revised Sheet No. 1140

First Revised Sheet No. 1141

First Revised Sheet No. 1142

As required by the Commission's October 2, 2000 Order in Docket No. RP97-406, DTI filed cost-based gathering and products extraction rates in the format required by section 154.301 to 154.314 of the Commission's regulations. The rates are based on cost-of-service data reflecting a base period of the twelve months ended August 31, 2000, adjusted for certain changes that are known and measurable with reasonable accuracy and will occur during the nine months following the end of the base period. The fully unbundled rates and the tariff sheets implementing those rates are to become effective January 1, 2001.

DTI states that copies of its filing have been served on its customers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at ­http://www.ferc.fed.us/online/rims/htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-28943 Filed 11-9-00; 8:45 am]

BILLING CODE 6717-01-M